Title 3—

The President

Memorandum of December 9, 2008

Designation of Officers of the United States Agency for International Development To Act As Administrator

Memorandum for the Administrator of the United States Agency for International Development

By the authority vested in me as President by the Constitution and the laws of the United States of America, including the Federal Vacancies Reform Act of 1998, 5 U.S.C. 3345 et seq., it is hereby ordered that:

Section 1. Order of Succession. Subject to the provisions of section 2 of this memorandum, the Assistant Administrators for the Bureaus, in the order in which they were appointed as an Assistant Administrator, shall act as and perform the functions and duties of the office of the Administrator (Administrator), during any period in which the Administrator and the Deputy Administrator have died, resigned, or otherwise become unable to perform the functions and duties of the office of Administrator, until such time as the Administrator or Deputy Administrator are able to perform the functions and duties of that office:

(a) Bureau for Africa;

(b) Bureau for Asia;

(c) Bureau for Democracy, Conflict, and Humanitarian Assistance;

(d) Bureau for Economic Growth, Agriculture, and Trade;

(e) Bureau for Europe and Eurasia;

(f) Bureau for Global Health;

(g) Bureau for Latin America and the Caribbean;

(h) Bureau for Legislative and Public Affairs;

(i) Bureau for Management; and

(j) Bureau for the Middle East.

Sec. 2. Exceptions. (a) No individual who is serving in an office listed in section 1 in an acting capacity, by virtue of so serving, shall act as the Administrator pursuant to this memorandum.

(b) No individual listed in section 1 shall act as Administrator unless that individual is otherwise eligible to so serve under the Federal Vacancies Reform Act of 1998.

(c) Notwithstanding the provisions of this memorandum, the President retains discretion, to the extent permitted by law, to depart from this memorandum in designating an acting Administrator.

Sec. 3. This memorandum supersedes the President's memorandum of July 10, 2002, (Designation of Officers of the United States Agency for International Development to Act as Administrator).

Sec. 4. This memorandum is intended to improve the internal management of the executive branch and is not intended to, and does not, create any right or benefit, substantive or procedural, enforceable at law or in equity, by any party against the United States, it agencies, instrumentalities, or entities, its officers, employees, or agents, or any other person.

Sec. 5. You are authorized and directed to publish this memorandum in the Federal Register.

THE WHITE HOUSE,

Washington, December 9, 2008.

[FR Doc. E8-29623

Filed 12-11-08; 8:45 am]

Billing code 6116-01-M